DEPARTMENT OF HEALTH AND HUMAN SERVICES

Centers for Disease Control and Prevention

[60Day-12-0822]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 and send comments to Kimberly S. Lane, 1600 Clifton Road, MS-D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

National Intimate Partner and Sexual Violence Surveillance System (OMB No. 0920-0822, exp. 09/30/2012)—Revision—National Center for Injury Prevention and Control (NCIPC), Centers for Disease Control and Prevention (CDC).

Background and Brief Description

The health burden of Intimate Partner Violence (IPV), Sexual Violence (SV) and stalking are substantial. To address this important public health problem, in 2010, CDC implemented the National Intimate Partner and Sexual Violence Surveillance System (NISVSS) which produces national and state level estimates of IPV, SV and Stalking on an annual basis.

NIVSS used a dual-frame sampling strategy that includes both landline and cellphone. In 2010, approximately 45.2% of interviews were conducted by landline telephone and 54.8% of interviews were conducted using respondent's cell phone. The overall weighted response for 2010 data collection was 27.5%. The weighted cooperation rate was 81.3%. The cooperation rate reflects the proportion who agreed to participate in the interview among those who were contacted and determined eligible. The cooperation rate obtained for 2010 data collection suggests that, once contact was made and eligibility was determined, the majority of respondents chose to participate in the interview.

In the first year of data collection, the NISVSS data found that approximately 6.9 million women and 5.6 million men experienced rape, physical violence and/or stalking by an intimate partner within the last year. NISVSS data also suggested that 18.3% of women and 1.4% of men in the U.S. experienced rape in their lifetime. In addition, 44.5% of women and 22.2% of men experienced sexual violence other than rape during their lifetime. NISVSS 2010 data also indicates that approximately 5 million women and 1.4 million men in the United States were stalked in the 12 months prior to the survey.

There are also overlaps between stalking and other forms of violence in intimate relationships; approximately 14% of females who were stalked by an intimate partner in their lifetime also experienced physical violence by an intimate partner; while 12% of female victims experienced rape, physical violence and stalking by a current or former intimate partner in their lifetime. Furthermore, 76% of female victims of intimate partner homicides were stalked by their partners before they were killed.

The lifetime impact of these types of violence on victims is extensive. Nearly 1 in 3 women and 1 in 10 men in the United States have experienced rape, physical violence and/or stalking by an intimate partner and reported at least one impact related to experiencing these or other forms of violent behavior within the relationship (e.g., fear, concern for safety, post-traumatic stress disorder (PTSD) symptom, injury, crisis hotline consult, at least one day of work or school missed, and needs for health care, housing, victim advocate, and legal services.

CDC proposes to continue this national surveillance system that will provide more detailed and timely information on intimate partner violence, sexual violence and stalking victimization in the U.S. The proposed changes to the National Intimate Partner and Sexual Violence Surveillance System are two-fold: First, CDC will no longer collect data on special sub-populations (i.e. military, elderly AIAN) and thus, focuses the scope of data collection to the general population. Second, CDC will reduce the number of questions asked in the survey. Currently, NISVSS asks a total of 249 questions which comprise both behavioral gateway questions asked of every respondent and follow-up questions directed towards respondents who report experiencing various forms of intimate partner violence, sexual violence and stalking.

The current proposal aims to reduce the number of questions to 178 questions which will continue to be comprised of a combination of behavioral questions asked of every respondent and a series of follow-up questions that will only be asked of respondents reporting victimization.

Focusing the scope of data collection and reducing the number of questions will result in a decrease in burden to the respondents. Previously, the estimated number of respondents screened was 20,948 and the number of respondents surveyed was 10,000. This resulted in an average burden per individual respondent screened of 3 minutes and average burden per individual surveyed of 25 minutes with a total burden of 5,214 hours.

This proposal seeks to increase the sample size and response rate. The proposed number of respondents screened is 85,000 while the proposed number of respondents surveyed is 22,000. The average burden per screened respondent remains at 3 minutes (total burden in hours equals 4,250) while the average burden per surveyed respondent is 15 minutes (total burden in hours equals 5,500). This proposal reduces the average burden per surveyed respondent by 10 minutes. The increase in the number of individuals screened and individuals surveyed equals a total burden of 9,750 hours.

Shortening the survey and reducing the burden on respondents will allow CDC to conduct more interviews thus increasing the reliability of both national and state estimates. The purpose of the information collected remains the same.

There are no costs to respondents to participate other than their time.

Estimated Annualized Burden Hours
Type of respondent | Form name | Number of responses | Number of responses per respondent | Average burden per response (in hours) | Total burden (in hours)
Individuals | Non-Participating Individuals (Screened) | 85,000 | 1 | 3/60 | 4,250
| Eligible Individuals (Surveyed) | 22,000 | 1 | 15/60 | 5,500
Total |  |  |  |  | 9,750

Kimberly S. Lane,
Deputy Director, Office of Science Integrity, Office of the Associate Director for Science, Office of the Director, Centers for Disease Control and Prevention.

[FR Doc. 2012-13692 Filed 6-5-12; 8:45 am]

BILLING CODE 4163-18-P